ENVIRONMENTAL PROTECTION AGENCY

[FRL—8454-4]

Science Advisory Board Staff Office; Notification of Two Public Teleconferences and a Meeting of the Science Advisory Board Integrated Nitrogen Committee

AGENCY: Environmental Protection Agency (EPA).

ACTION: Notice.

SUMMARY: The Environmental Protection Agency (EPA or Agency) Science Advisory Board Staff Office announces two public teleconferences and a meeting of the EPA SAB Integrated Nitrogen Committee.

DATES: The teleconference meetings will be held on Friday, September 14, 2007, from 2:00 p.m. to 4 p.m. (Eastern Time) and on October 15, 2007 from 2 p.m. to 4 p.m. (Eastern Time). A face-to-face meeting will be held on October 29 from 9 a.m. to 5 p.m. (Eastern Time), continuing from 8:30 a.m. to 5 p.m. (Eastern Time) on October 30, and from 8:30 a.m. to 2 p.m. on October 31.

ADDRESSES: The teleconferences will be conducted by phone only. The October 29-31, 2007 face-to-face meeting will be held at the SAB Conference Center, located at 1025 F. Street, NW., Washington, DC 20004.

FOR FURTHER INFORMATION CONTACT: Any member of the public who wishes to obtain the call-in number and access code for the teleconferences; attend the face-to-face meeting; or receive further information concerning the teleconferences and meeting may contact Ms. Kathleen White, Designated Federal Officer (DFO). Ms. White may be contacted at the EPA Science Advisory Board (1400F), U.S. Environmental Protection Agency, 1200 Pennsylvania Avenue, NW., Washington, DC 20460; or via telephone/voice mail: (202) 343-9878; fax: (202) 233-0643; or e-mail at: white.kathleen@epa.gov. General information concerning the EPA SAB can be found on the EPA Web site at http://www.epa.gov/sab.

SUPPLEMENTARY INFORMATION: Background: The SAB Integrated Nitrogen Committee is studying the need for integrated research and strategies to reduce reactive nitrogen in the environment. At the global scale, reactive nitrogen resulting from human activities now exceeds that produced by natural terrestrial ecosystems. Reactive nitrogen both benefits and impacts the health and welfare of people and ecosystems. Scientific information suggests that reactive nitrogen is accumulating in the environment and that nitrogen cycling through biogeochemical pathways has a variety of consequences. Research suggests that the management of reactive nitrogen should be viewed from a systems perspective and integrated across environmental media. Accordingly, linkages between reactive nitrogen induced environmental and human health effects need to be understood in order to optimize reactive nitrogen research and risk management strategies.

At a public meeting January 30-31, 2007, the Committee developed a work plan for the study. At its June 20-22, 2007 meeting the Committee gathered information, created an outline for the study's report relating to reactive nitrogen in the environment, and made writing assignments. Further information on those meetings was provided in the Federal Register (72 FR 1989, January 17, 2007 and 72 FR 13492, March 22, 2007). On the September 14, 2007 teleconference, Committee members will summarize the progress they have made on their assignments, identify anything they need to complete the work, and engage in other Committee business as needed. On the October 15, 2007 call, the Committee will hear brief summaries of the member's work, identify any critical areas that need attention before the face-to-face meeting, make recommendations for refining the agenda, and conduct other Committee business. At the October 29-31, 2007 meeting, the Committee will discuss the body of its report, arrange for revisions as needed, and to plan the completion of the remaining chapters.

Availability of Meeting Materials: The draft agenda, and other materials for this teleconference will be posted on the SAB Web site at http://www.epa.gov/sab prior to the meeting.

Procedures for Providing Public Input: Interested members of the public may submit relevant written or oral information for the Integrated Nitrogen Committee to consider during the course of their study. Oral Statements: In general, individuals or groups requesting an oral presentation at a public teleconference will be limited to three minutes per speaker, with no more than a total of 30 minutes for all speakers. Interested parties should contact Ms. White, DFO, in writing (preferably via e-mail), by September 7, 2007, for the September 14 teleconference, by October 10 for the October 15 teleconference, and by October 22 for the October 29-31 meeting, at the contact information noted above, to be placed on the list of public speakers for this meeting. Written Statements: Written statements should be received in the SAB Staff Office by the same dates. Written statements should be supplied to the DFO in the following formats: one hard copy with original signature, and one electronic copy via e-mail (acceptable file format: Adobe Acrobat PDF, WordPerfect, MS Word, MS PowerPoint, or Rich Text files in IBM-PC/Windows 98/2000/XP format).

Accessibility: For information on access or services for individuals with disabilities, please contact Ms. White at the phone number or e-mail address noted above, preferably at least ten days prior to the meeting, to give EPA as much time as possible to process your request.

Dated: August 7, 2007.
Anthony F. Maciorowski,
Deputy Director, EPA Science Advisory Board Staff Office.

[FR Doc. E7-15899 Filed 8-13-07; 8:45 am]

BILLING CODE 6560-50-P